DEPARTMENT OF THE INTERIOR

National Park Service

Notice of Inventory Completion for Native American Human Remains and Associated Funerary Objects in the Possession of the U.S. Department of Energy, Richland Operations Office, Richland, WA

AGENCY: National Park Service, Interior.

ACTION: Notice.

Notice is hereby given in accordance with provisions of the Native American Graves Protection and Repatriation Act (NAGPRA), 43 CFR 10.9, of the completion of an inventory of human remains and associated funerary objects in the possession of the U.S. Department of Energy, Richland Operations Office, Richland, WA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the U.S. Department of Energy, Richland Operations Office professional staff and contract specialists in archeology, ethnography, and human osteology, in consultation with representatives of the Confederated Tribes and Bands of the Yakama Indian Nation of the Yakama Reservation, Washington; the Confederated Tribes of the Colville Reservation, Washington; the Confederated Tribes of the Umatilla Reservation, Oregon; the Nez Perce Tribe of Idaho; and the Wanapum Band, a non-Federally recognized Indian group.

In 1968, human remains representing one individual were recovered from site 45-BN-128, Benton County, WA, by Dr. David Rice, Washington State University, Pullman, WA, during an archeological survey. No known individual was identified. The seven associated funerary objects are fragments of dentalium shells, one of which exhibits intricately etched designs.

Site 45-BN-128 is a burial site located on an island about 4 miles downriver from Tacht, a major Native American village. Tacht, located near the East White Bluffs townsite, was occupied until 1943 by members of the Wanapum Band, as well as members of other tribes whose descendants now reside on the Yakama, Umatilla, Colville and Nez Perce reservations. Artifacts observed at the burial site included chipped stone tools, a bone needle, glass trade beads, and shell beads.

Based on skeletal morphology, the archeological context, the condition of the human remains, and the associated funerary objects, these human remains have been identified as Native American dating prior to European contact. Historic documents, ethnographic sources, and oral history indicate that the Wanapum Band, also known as the Priest Rapids Indians, occupied this section of the Columbia River since precontact times. The treaties of 1855 and other historic documents, ethnographic sources, and oral history identify site 45-BN-128 as located on the ceded lands boundary between the Confederated Tribes of the Umatilla Reservation, Oregon, and the Confederated Tribes and Bands of the Yakama Indian Nation of the Yakama Reservation, Washington, in an area routinely visited by bands associated with both groups. Bands associated with the Nez Perce Tribe of Idaho and the Confederated Tribes of the Colville Reservation, Washington, are also known to have used the area routinely.

In 1974-75, human remains representing one individual were recovered from Taks'sah' (45-BN-157), Benton County, WA, during legally-authorized archeological excavations conducted by the Mid-Columbia Archaeological Society under the direction of Dr. David Rice, University of Idaho, Moscow, ID. The remains were transferred to the U.S. Department of Energy, Richland Operations Office in 1994. No known individual was identified. The eight associated funerary objects are stone flakes.

Taks'sah', also known as Jaeger's Island, was a principle Wanapum sedentary village that was occupied until 1943. Based on skeletal morphology, the archeological context, the condition of the human remains, and the associated funerary objects, these human remains have been identified as Native American dating prior to European contact. Historic documents, ethnographic sources, and oral history indicate that the Wanapum Band occupied this section of the Columbia River since precontact times. The treaties of 1855 and other historic documents, ethnographic sources, and oral history identify site 45-BN-157 as located within the ceded lands of the Confederated Tribes and Bands of the Yakama Indian Nation of the Yakama Reservation, Washington, in an area routinely visited by bands associated with this tribe. Bands associated with the Confederated Tribes of the Umatilla Reservation, Oregon; the Confederated Tribes of the Colville Reservation, Washington; and the Nez Perce Tribe of Idaho are also known to have used the area routinely.

In 1987, human remains representing one individual were recovered from site 45-BN-163, Benton County, WA, during archeological surface collection by Hanford Cultural Resources Laboratory staff. No known individual was identified. No associated funerary objects are present.

Site 45-BN-163 is a housepit containing materials typically associated with the late precontact settlement of the area, including fire-cracked rock, cobble tools, notched pebble sinkers, corner-notched projectile points, flakes, and shell. These remains were recovered in an area traditionally associated with the Wanapum Band and within the ceded lands of the Confederated Tribes of the Umatilla Reservation, Oregon. Bands associated with the Confederated Tribes and Bands of the Yakama Indian Nation of the Yakama Reservation, Washington; the Nez Perce Tribe of Idaho; and the Confederated Tribes of the Colville Reservation, Washington, are also known to have used this area routinely.

Based on the above-mentioned information, officials of the U.S. Department of Energy, Richland Operations Office have determined that, pursuant to 43 CFR 10.2 (d)(1), the human remains listed above represent the physical remains of three individuals of Native American ancestry. Officials of the U.S. Department of Energy, Richland Operations Office also have determined that, pursuant to 43 CFR 10.2 (d)(2), the 15 objects listed above are reasonably believed to have been placed with or near individual human remains at the time of death or later as part of the death rite or ceremony. Lastly, officials of the U.S. Department of Energy, Richland Operations Office have determined that, pursuant to 43 CFR 10.2 (e), there is a relationship of shared group identity that can be reasonably traced between these Native American human remains and associated funerary objects and the Confederated Tribes and Bands of the Yakama Indian Nation of the Yakama Reservation, Washington; the Confederated Tribes of the Colville Reservation, Washington; the Confederated Tribes of the Umatilla Reservation, Oregon; the Nez Perce Tribe of Idaho; and the Wanapum Band, a non-Federally recognized Indian group.

This notice has been sent to officials of the Confederated Tribes and Bands of the Yakama Indian Nation of the Yakama Reservation, Washington; the Confederated Tribes of the Colville Reservation, Washington; the Confederated Tribes of the Umatilla Reservation, Oregon; the Nez Perce Tribe of Idaho; and the Wanapum Band. Representatives of any other Indian tribe that believes itself to be culturally affiliated with these human remains and associated funerary objects should contact Dee W. Lloyd, Site Preservation Officer, U.S. Department of Energy, Richland Operations Office, P.O. Box 550, Richland, Washington 99352, telephone (509) 372-2299, before April 9, 2001. Repatriation of the human remains and associated funerary objects to the affiliated tribes may begin after that date if no additional claimants come forward.

Dated: February 20, 2001.
John Robbins,
Assistant Director, Cultural Resources Stewardship and Partnerships.

[FR Doc. 01-5939 Filed 3-8-01; 8:45 am]

BILLING CODE 4310-70-F